DEPARTMENT OF COMMERCE

Bureau of the Census

Dynamics of Economic Well-Being System

AGENCY: Bureau of the Census, Department of Commerce.

ACTION: Notice of public meeting.

SUMMARY: The Bureau of the Census (U.S. Census Bureau) is giving notice of a meeting to discuss the re-engineering of the Survey of Income and Program Participation (SIPP)—specifically, the content of the new survey.

DATES: August 24, 2006. The meeting will begin at approximately 10 a.m. and adjourn at approximately 12 noon.

ADDRESSES: The meeting will be held in the Gannett/Hollerith conference rooms at the U.S. Census Bureau Headquarters, 4700 Silver Hill Road, Suitland, Maryland 20746-8500.

FOR FURTHER INFORMATION CONTACT: David Johnson, Chief, Housing and Household Economics Statistics Division, Department of Commerce, U.S. Census Bureau, Room 1071, Federal Building 3, Washington, DC 20233. His telephone number is (301) 763-6443.

SUPPLEMENTARY INFORMATION: The SIPP has been the primary data source used by policymakers to evaluate the effectiveness of government programs and to analyze the impacts of options for modifying them. The SIPP's longitudinal design has many advantages, but imposes considerable burden on respondents and makes review and data processing difficult and time-consuming. The re-engineered system, to be known as the dynamics of economic well-being system, is expected to reduce respondent burden and attrition and deliver data on a timely basis. Although it will not supply the same level of detail as the SIPP, its design must offer policymakers and researchers data that address the same basic issues.

The dynamics of economic well-being system will use data from current demographic surveys and administrative records to identify a population cohort that will be measured longitudinally by using administrative data, combined with a new demographic survey instrument. A major goal of this new system is to develop monthly estimates of whether and how much individuals participate in cash-assistance programs and to include a longitudinal component.

The meeting is open to the public, and a brief period is set aside for public comment and questions. Those persons with extensive questions or statements must submit them in writing, at least three days before the meeting, to the Committee Liaison Officer named above. Seating is available to the public on a first-come, first-serve basis.

This meeting is physically accessible to people with disabilities. Requests for sign language interpretation or other auxiliary aids should be sent via e-mail to Mary Chin (mary.p.chin@census.gov) at least two weeks prior to the meeting.

Dated: July 26, 2006.
Charles Louis Kincannon,
Director, Bureau of the Census.

[FR Doc. E6-12329 Filed 7-31-06; 8:45 am]

BILLING CODE 3510-07-P